DEPARTMENT OF COMMERCE

International Trade Administration

[A-570-114]

Certain Glass Containers From the People's Republic of China: Postponement of Preliminary Determination in the Less-Than-Fair-Value Investigation

AGENCY: Enforcement and Compliance, International Trade Administration, Department of Commerce.

DATES: Applicable February 20, 2020.

FOR FURTHER INFORMATION CONTACT: Lilit Astvatsatrian or Aleksandras Nakutis, AD/CVD Operations, Office IV, Enforcement and Compliance, International Trade Administration, U.S. Department of Commerce, 1401 Constitution Avenue NW, Washington, DC 20230; telephone: (202) 482-6412 or (202) 482-3147, respectively.

SUPPLEMENTARY INFORMATION:

Background

On October 15, 2019, the Department of Commerce (Commerce) initiated a less-than-fair-value (LTFV) investigation of imports of certain glass containers (glass containers) from the People's Republic of China.¹ Currently, the preliminary determination is due no later than March 3, 2020.

¹ See Certain Glass Containers from the People's Republic of China: Initiation of Less-Than-Fair-Value Investigation, 84 FR 56174 (October 21, 2019).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request to postpone 25 days or more before the scheduled date of the preliminary determination and must state the reasons for postponement. Commerce will grant the request unless it finds compelling reasons to deny the request.

On February 3, 2020, the petitioner ² submitted a timely request that Commerce postpone the preliminary determination in this LTFV investigation.³ The petitioner stated that it requests postponement “to allow all parties ample time to fully analyze the enormous volume of critical information relevant prior to the preliminary determination in this case.” ⁴

² The petitioner is the American Glass Packaging Coalition.

³ See Petitioner's Letter “Certain Glass Containers from the People's Republic of China: Request to Postpone Preliminary Determination,” dated February 3, 2020.

⁴ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than April 22, 2020. In accordance with section 735(a)(1) of the Act and 19 CFR 351.210(b)(1), the deadline for the final determination in this investigation will continue to be 75 days after the date of the preliminary determination, unless postponed.

Notification to Interested Parties

This notice is issued and published pursuant to section 733(c)(2) of the Act and 19 CFR 351.205(f)(1).

Dated: February 12, 2020.
Jeffrey I. Kessler,
Assistant Secretary for Enforcement and Compliance.

[FR Doc. 2020-03363 Filed 2-19-20; 8:45 am]

BILLING CODE 3510-DS-P